DEPARTMENT OF HEALTH AND HUMAN SERVICES

Administration for Children and Families

Notice of Public Comment on Tribal Consultation Sessions

AGENCY: Office of Head Start (OHS), HHS.

ACTION: Notice of Public Comment on Tribal Consultation Sessions to be held on June 16, June 29, July 15, July 30, August 16, August 27, October 18, and October 20, 2010.

SUMMARY: Pursuant to the Improving Head Start for School Readiness Act of 2007, Public Law 110-134, notice is hereby given of one-day Tribal Consultation Sessions to be held between the Department of Health and Human Services, Administration for Children and Families, Office of Head Start leadership and the leadership of Tribal Governments operating Head Start (including Early Head Start) programs. The purpose of these Consultation Sessions is to discuss ways to better meet the needs of American Indian and Alaska Native children and their families, taking into consideration funding allocations, distribution formulas, and other issues affecting the delivery of Head Start services in their geographic locations [42 U.S.C. 9835, Section 640(l)(4)].

Dates & Locations: The Tribal Consultation Sessions will be held as follows:

June 16, 2010—San Diego, California.

June 29, 2010—Rock Hill, South Carolina.

July 15, 2010—Green Bay, Wisconsin.

July 30, 2010—Tulsa, Oklahoma.

August 16, 2010—Boston, Massachusetts.

August 27, 2010—Rapid City, South Dakota.

October 18, 2010—Auburn, Washington.

October 20, 2010—Fairbanks, Alaska.

FOR FURTHER INFORMATION CONTACT: Trevondia Boykin, Head Start Program Specialist, Office of Head Start, e-mail Trevondia.Boykin@acf.hhs.gov or phone (202) 205-7830. Additional information and online meeting registration is available at http://www.headstartresourcecenter.org.

SUPPLEMENTARY INFORMATION: The Department of Health and Human Services (HHS) would like to invite leaders of Tribal Governments operating Head Start (including Early Head Start) programs to participate in a formal Consultation Session with OHS leadership. The Consultation Sessions will take place June 16, 2010, in San Diego, California; June 29, 2010, in Rock Hill, South Carolina; July 15, 2010, in Green Bay, Wisconsin; July 30, 2010, in Tulsa, Oklahoma; August 16, 2010, in Boston, Massachusetts; August 27, 2010, in Rapid City, South Dakota; October 18, 2010, in Auburn, Washington; and October 20, 2010 in Fairbanks, Alaska.

The purpose of Tribal Consultation Sessions is to solicit input on ways to better meet the needs of American Indian and Alaska Native children and families, taking into consideration funding allocations, distribution formulas, and other issues affecting the delivery of Head Start services in their geographic locations.

The agendas for the Tribal Consultation Sessions will be developed in conjunction with the HHS Regional Tribal Planning Committees. Tribal leaders and designated representatives interested in submitting written testimony or proposing agenda topics for a specific Consultation Session should contact Trevondia Boykin at Trevondia.Boykin@acf.hhs.gov at least three days in advance of the Session. Proposals should include a brief description of the topic area along with the name and contact information of the suggested presenter.

The Consultation Sessions will be conducted with elected or appointed leaders of Tribal Governments and their designated representatives [42 U.S.C. 9835, Section 640(l)(4)(A)]. Designees must have a letter from the Tribal Government authorizing them to represent the Tribe. The letter should be submitted at least three days in advance of the Consultation Session to Trevondia Boykin at (202) 205‐9721 (fax). Other representatives of Tribal organizations and Native nonprofit organizations are welcome to attend as observers.

A detailed report of each Consultation Session will be prepared and made available within 90 days of the Consultation Session to all Tribal Governments receiving funds for Head Start (including Early Head Start) programs. Tribes wishing to submit written testimony for the report should send testimony to Trevondia Boykin at Trevondia.Boykin@acf.hhs.gov either prior to the Consultation Session or within 30 days after the meeting. Written testimony submitted to OHS will be included in the report appendix. Oral testimony and comments from the Consultation Session will be summarized in the report without attribution, along with topics of concern and recommendations.

Hotel and logistical information for all Consultation Sessions has been sent to Tribal leaders via e-mail and posted on the Head Start Resource Center Web site at http://www.headstartresourcecenter.org.

Dated: May 7, 2010.
Yvette Sanchez Fuentes,
Director, Office of Head Start.

[FR Doc. 2010-11412 Filed 5-12-10; 8:45 am]

BILLING CODE 4184-40-P